DEPARTMENT OF THE INTERIOR

Fish and Wildlife Service

Roanoke River National Wildlife Refuge, Bertie County, NC

AGENCY: Fish and Wildlife Service, Interior.

ACTION: Notice of decision and availability of record of decision for final comprehensive conservation plan and environmental impact statement.

SUMMARY: The Fish and Wildlife Service announces a notice of decision and availability of record of decision (ROD) for Roanoke River National Wildlife Refuge Final Comprehensive Conservation Plan (CCP) and Environmental Impact Statement (EIS). The refuge is in Bertie County, North Carolina. A thorough analysis of the environmental, social, and economic considerations was completed and presented in the Final CCP/EIS. The Final CCP/EIS was released to the public and a notice of availability was published in the Federal Register on October 31, 2005 (70 FR 62322). The ROD documents the selection of Alternative 3 (the Service-perferred alternative). which is represented by the Final CCP/EIS for the refuge. The ROD was signed by the Regional Director, U.S. Fish and Wildlife Service, Southeast Region, on January 12, 2006.

ADDRESSES: A copy of the ROD may be obtained from the Refuge Manager, Roanoke River National Wildlife Refuge, 114 West Water Street, Windsor, North Carolina 27983, or you may call the Refuge Manager at 252-794-3808. A copy of the Final CCP/EIS is available at the following Web site: http://southeast.fws.gov/planning.

FOR FURTHER INFORMATION CONTACT: Refuge Manager, Roanoke River national Wildlife Refuge, 114 West Water Street, Windsor, North Carolina 27983; Telephone (252) 794-3808.

SUPPLEMENTARY INFORMATION: The following is a summary of the ROD, which selects Final CCP/EIS Alternative 3, for Roanoke river National Wildlife Refuge. The CCP/EIS provides management guidance that conserves refuge resources and facilitates compatible wildlife-dependent public use activities during the next 15 years.

The Service has selected as the preferred alternative, Alternative 3, which addresses key issues and conflicts identified during the planning process, and will best achieve the purposes and goals of the refuge, as well as the mission of the National Wildlife Refuge System. This decision includes the management goals, objectives, and strategies identified in the CCP/EIS Chapter III, the adoption of stipulations and mitigation measures identified in Chapter IV, and compatibility determinations in Appendix IX. The implementation of the CCP will occur over the next 15 years, depending on future staffing levels, funding, and willing sellers of land.

Factors Considered in Making the Decision

The decision was based on a thorough analysis of the environmental, social, and economic considerations presented in the Final CCP/EIS. During the decision-making phase of the CCP process, the Service reviewed and considered: The impacts identified in Chapter IV of the Draft and Final CCP/EIS; the results of various studies and surveys conducted in conjunction with the Draft and Final CCP/EIS; relevant issues, concerns, and opportunities; comments on the Draft and Final CCP/EIS; and other relevant factors, including the purposes for which the refuge was established and statutory and regulatory guidance.

Alternative 3 incorporates several components addressing a variety of needs, including fish and wildlife surveys, habitat restoration and protection, acquisition of lands within the approved acquisition boundary, and the six priority public uses of the National Wildlife Refuge System Improvement Act of 1997.

It is, however, the unique combination of these components that contributes the most to achieving the refuge's purposes and goals. Alternative 3 strengthens the monitoring of fish, wildlife, habitat, and public uses that will provide the means to better respond to rapidly changing conditions on the refuge. Alternative 3 was selected for implementation because it provides the greatest number of opportunities for the refuge to contribute to the fish, wildlife, and habitat needs of the Roanoke River watershed.

Authority: This notice is published under the authority of the National Wildlife Refuge System Improvement Act of 1977, Public Law 105-57.

Dated: November 30, 2005.
Cynthia K. Dohner,
Acting Regional Director.

[FR Doc. 06-521 Filed 1-19-06; 8:45 am]

BILLING CODE 4310-55-M